DEPARTMENT OF VETERANS AFFAIRS

Enhanced-Use Development at the Samuel S. Stratton VA Medical Center, Albany, New York

AGENCY: Department of Veterans Affairs.

ACTION: Notice of Designation and Notice of Intent to Execute an Enhanced-Use Lease.

SUMMARY: The Acting secretary of the Department of Veterans Affairs (VA) is designating the Samuel S. Stratton VA Medical Center, Albany, New York, as a site for Enhanced-Use lease development. VA intends to execute an Enhanced-Use lease of 2.5 acres to the Renaissance Corporation of America for construction of a 1,220-space parking garage.

FOR FURTHER INFORMATION CONTACT: Jake Gallun, Portfolio Manager, Asset and Enterprise Development Service (181B), Department of Veterans Affairs, 810 Vermont Avenue, NW., Washington, DC 20420, (202) 565-4307.

SUPPLEMENTARY INFORMATION: 38 U.S.C. Sec. 8161, et seq., specifically provides that the Secretary may enter into an Enhanced-Use lease, if the Secretary determines that at least part of the use of the property under the lease will be to provide appropriate space for an activity contributing to the mission of the Department; the lease will not be inconsistent with and will not adversely affect the mission of the Department; and the lease will enhance the property. The project meets these requirements.

Dated: December 20, 2000.
Hershel W. Gober,
Acting Secretary of Veterans Affairs.

[FR Doc. 01-817 Filed 1-10-01; 8:45 am]

BILLING CODE 8320-01-M